DEPARTMENT OF TRANSPORTATION

Office of the Secretary

Aviation Proceedings, Agreements Filed the Week Ending May 7, 2011

The following Agreements were filed with the Department of Transportation under Sections 412 and 414 of the Federal Aviation Act, as amended (49 U.S.C. 1382 and 1384) and procedures governing proceedings to enforce these provisions. Answers may be filed within 21 days after the filing of the application.

Docket Number: DOT-OST-2011-0090.

Date Filed: May 5, 2011.

Parties: Members of the International Air Transport Association.

Subject: TC31 South West Pacific—TC1 (except Canada, USA). Composite Resolution 017c e-Tariffs, 4-22 April 2011 (Memo 1618). Intended Effective Date: 1 July 2011.

Docket Number: DOT-OST-2011-0091.

Date Filed: May 5, 2011.

Parties: Members of the International Air Transport Association.

Subject: TC31 South West Pacific—TC1 (except Canada, USA), Resolution 012p—Glossary of Termse-Tariffs, 4-22 April 2011 (Memo 0229). Intended Effective Date: 1 July 2011.

Docket Number: DOT-OST-2011-0094.

Date Filed: May 5, 2011.

Parties: Members of the International Air Transport Association.

Subject: Mail Vote 677—Resolution 010m, TC3 between South East Asia and Japan, Korea Special Passenger Amending Resolution between China (excluding Hong Kong SAR and Macao SAR) and Japan (Memo 1429). Intended Effective Date: 15 June 2011.

Docket Number: DOT-OST-2011-0095.

Date Filed: May 5, 2011.

Parties: Members of the International Air Transport Association.

Subject: Mail Vote 676, TC1 Caribbean, Longhaul, Within South America. Composite Resolutions e-Tariffs, 4-22 April 2011 (Memo 1620). Intended Effective Date: 1 July 2011.

Docket Number: DOT-OST-2011-0096.

Date Filed: May 5, 2011.

Parties: Members of the International Air Transport Association.Subject: Mail Vote 634, TC31 South Pacific South West Pacific—TC1, (except Canada, USA) Composite Resolution 011be-Tariffs 8-23. March 2010 (Memo 1613).

Intended Effective Date: for travel on/after 1 July 2011.

Renee V. Wright,
Program Manager, Docket Operations, Federal Register Liaison.

[FR Doc. 2011-14085 Filed 6-7-11; 8:45 am]

BILLING CODE 4910-9X-P